DEPARTMENT OF TRANSPORTATION

Federal Highway Administration

Notice of Final Federal Agency Actions on Proposed Highway in Utah

AGENCY: Federal Highway Administration (FHWA), DOT.

ACTION: Notice of Limitation on Claims for Judicial Review of Actions by FHWA and other Federal agencies.

SUMMARY: This notice announces actions taken by the FHWA and other Federal agencies that are final within the meaning of 23 U.S.C. 139(l)(1). The actions relate to a proposed transportation corridor project (Cottonwood Street; 4500 South to Vine Street in Murray City, Salt Lake County in the State of Utah). These actions grant licenses, permits, and approvals for the project.

DATES: By this notice, the FHWA is advising the public of final agency actions subject to 23 U.S.C. 139(l)(1). A claim seeking judicial review of the FHWA actions on the highway project will be barred unless the claim is filed on or before September 22, 2012. If the Federal law that authorizes judicial review of a claim provides a time period of less than 180 days for filing such claim, then that shorter time period still applies.

FOR FURTHER INFORMATION CONTACT: For FHWA: Mr. Edward Woolford, Environmental Program Manager, Federal Highway Administration, 2520 West 4700 South, Suite 9A, Salt Lake City, Utah 84129; telephone (801) 955-3524; email: Edward.Woolford@dot.gov. The FHWA Utah Division's regular business hours are Monday through Friday, 7:30 a.m. to 4:30 p.m. MST.

SUPPLEMENTARY INFORMATION: Notice is hereby given that the FHWA and other Federal agencies have taken final agency actions subject to 23 U.S.C. 139(l)(1) by issuing licenses, permits, and approvals for the following highway project in the State of Utah: Cottonwood Street; 4500 South to Vine Street in Murray City, Salt Lake County, project number S-LC35(198). The project will be a one-way couplet with southbound traffic on Box Elder Street and northbound traffic on Hanauer Street. The project includes construction of a new section of Hanauer Street between 4800 South and Vine Street. The project will improve connectivity and reduce pedestrian and auto travel distances between the planned Murray City Center District, transit stations, neighborhoods, and nearby arterials; and it supports Murray City's plans for economic redevelopment and a more livable, walkable community in the year 2040.

The actions by the FHWA and the laws under which such actions were taken, are described in the Environmental Assessment (EA) for the project, approved on August 17,2011, in the FHWA Finding of No Significant Impact (FONSI) issued on March 1, 2012, and in other documents in the FHWA project files. The EA, FONSI, are available by contacting the FHWA at the address provided above. The FHWA EA and FONSI can be viewed and downloaded from the project Web site at www.cottonwoodstreetstudy.com or viewed at public libraries in the project area.

This notice applies to all Federal agency decisions, actions, approvals, licenses and permits on the project as of the issuance date of this notice and all laws under which such actions were taken, including but not limited to:

1. General: National Environmental Policy Act (NEPA) [42 U.S.C. 4321- 4347]; Federal-Aid Highway Act [23 U.S.C. 109];

2. Air: Clean Air Act [42 U.S.C. 7401- 7671(q)];

3. Land: Section 4(f) of the Department of Transportation Act of 1966 [49 U.S.C. 303];Wildlife: Endangered Species Act [16 U.S.C. 1531-1544]; Migratory Bird Treaty Act [16 U.S.C. 703-712];

4. Historic and Cultural Resources: Section 106 of the National Historic Preservation Act of 1966, as amended [16 U.S.C. 470f.];

5. Social and Economic: Civil Rights Act of 1964 [42 U.S.C. 2000(d)- 2000(d)(1)]; Farmland Protection Policy Act (FPPA) [7 U.S.C. 4201-4209];

6. Wetlands and Water Resources: Clean Water Act, 33 U.S.C. 1251-1377 [Section 404, Section 401, Section 319]; Safe Drinking Water Act [42 U.S.C. 300f et seq.]; TEA-21 Wetlands Mitigation [23 U.S.C. 103(b)(6)(m), 133(b)(11)]; Flood disaster Protection Act [42 U.S.C. 4001-4129].

Executive Orders: E.O. 11990, Protection of Wetlands; E.O. 11988, Floodplain Management; E.O. 12898, Federal Actions to Address Environmental Justice in Minority Populations and Low Income Populations; E.O. 13175, Consultation and Coordination with Indian Tribal Governments; E.O. 13112, Invasive Species. Nothing in this notice creates a cause of action under these Executive Orders. (Catalog of Federal Domestic Assistance Program Number 20.205, Highway Planning and Construction. The regulations implementing Executive Order 12372 regarding intergovernmental consultation on Federal programs and activities apply to this program.)

Authority: 23 U.S.C. 139(l)(1).

Issued on: March 19, 2012.
James C. Christian,
Division Administrator, Salt Lake City.

[FR Doc. 2012-7162 Filed 3-23-12; 8:45 am]

BILLING CODE 4910-RY-P